DEPARTMENT OF TRANSPORTATION

Federal Highway Administration

Rescinding the Notice of Intent To Prepare an Environmental Impact Statement: Shelby County, Tennessee

AGENCY: Federal Highway Administration (FHWA), Department of Transportation.

ACTION: Notice.

SUMMARY: The FHWA is issuing this notice to advise the public that it is rescinding its Notice of Intent (NOI) and will not be preparing an Environmental Impact Statement (EIS) for a proposed highway project in Shelby County, Tennessee. A NOI to prepare an EIS was published in the Federal Register on February 9, 2009.

FOR FURTHER INFORMATION CONTACT: For FHWA: Gilberto De León, P.E.; Acting Division Administrator; Federal Highway Administration; Tennessee Division Office; 404 BNA Drive, Building 200, Suite 508, Nashville, TN 37217; Telephone: 615-426-3214; email: gilberto.deleon@dot.gov. The FHWA Tennessee Division Office's normal business hours are 7:30 a.m. to 4:00 p.m. (Central Time), Monday through Friday. For TDOT: Sharon Schutz, P.E.; Environmental Division Director; Tennessee Department of Transportation; James K. Polk Building, Suite 900, 505 Deaderick Street, Nashville, TN 37243; Telephone: 615-350-4208; email: sharon.schutz@tn.gov. The TDOT Environmental Division's normal business hours are 8 a.m. to 5 p.m. (Central Time), Monday through Friday.

SUPPLEMENTARY INFORMATION: The FHWA, in cooperation with the Tennessee Department of Transportation (TDOT), initiated an EIS with a NOI published in the Federal Register on February 9, 2009, at 74 FR 6203. The project would have improved North Second Street and North Third Street to form a one-way pair from I-40 to Chelsea Avenue and would have constructed a four-lane two-way roadway from Chelsea Avenue to the intersection of U.S. 51 and Whitney Avenue north of downtown Memphis. The TDOT has determined continued preparation of the EIS for the North Second Street Improvements (Project) is no longer feasible. The primary reason for this determination is the financial impact of the costs required to fund the remaining phases of the project. Therefore, the preparation of the EIS is being terminated.

Gilberto De León,
Acting Division Administrator, Nashville, Tennessee.

[FR Doc. 2024-09916 Filed 5-6-24; 8:45 am]

BILLING CODE 4910-RY-P